CIVIL RIGHTS COLD CASE RECORDS REVIEW BOARD

[Agency Docket Number: CRCCRRB-2026-0007-N]

Notice of Formal Determination on Records Release

AGENCY: Civil Rights Cold Case Records Review Board.

ACTION: Notice.

SUMMARY: The Civil Rights Cold Case Records Review Board received 1,300 pages of records from the National Archives and Records Administration (NARA) related to four civil rights cold case incidents to which the Review Board assigned the unique identifiers 2024-004-006, 2024-004-008, 2024-004-015, and 2024-004-018. NARA did not propose any postponements of disclosure. On February 20, 2026, the Review Board met and determined that the records should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

Authority: Pub. L. 115-426, 132 Stat. 5489 (44 U.S.C. 2107).

Dated: February 23, 2026.
Stephannie Oriabure,
Chief of Staff.

[FR Doc. 2026-03814 Filed 2-25-26; 8:45 am]

BILLING CODE 6820-SY-P